DEPARTMENT OF THE TREASURY

Internal Revenue Service

Open meeting of the Ad Hoc Committee of the Taxpayer Advocacy Panel

AGENCY: Internal Revenue Service (IRS) Treasury.

ACTION: Notice.

SUMMARY: An open meeting of the Ad Hoc Committee of the Taxpayer Advocacy Panel will be conducted (via teleconference). The TAP will be discussing issues pertaining to decreasing the burden of tax administration for taxpayers. Recommendations for IRS systemic changes will be developed.

DATES: The meeting will be held Monday, August 25, 2003.

FOR FURTHER INFORMATION CONTACT: Anne Gruber at 1-888-912-1227 or 206 220-6096.

SUPPLEMENTARY INFORMATION: Notice is hereby given pursuant to Section 10(a)(2) of the Federal Advisory Committee Act, 5 U.S.C. App. (1988) that an open meeting of the Ad Hoc Committee of the Taxpayer Advocacy Panel will be held Monday, August 25, 2003, from 8 a.m. p.d.t. to 9 a.m. p.d.t. via a telephone conference call. The public is invited to make oral comments. Individual comments will be limited to 5 minutes. If you would like to have the TAP consider a written statement, please call 1-888-912-1227 or 206-220-6096, or write to Anne Gruber, TAP Office, 915 2nd Avenue, MS W-406, Seattle, WA 98174. Due to limited conference lines, notification of intent to participate in the telephone conference call meeting must be made with Anne Gruber. Ms Gruber can be reached at 1-888-912-1227 or 206-220-6096.

The agenda will include the following: Various IRS issues.

Dated: July 23, 2003.
Deryle J. Temple,
Director, Taxpayer Advocacy Panel.

[FR Doc. 03-20029 Filed 8-5-03; 8:45 am]

BILLING CODE 4830-01-P